DEPARTMENT OF TRANSPORTATION

Federal Aviation Administration

14 CFR Parts 25, 91, 121, 125, and 135

[Docket No. FAA-2000-7909; Amdt. Nos. 25-110, 91-279, 121-301, 125-43, 135-90]

RIN 2120-AG91

Improved Flammability Standards for Thermal/Acoustic Insulation Materials Used in Transport Category Airplanes; Correction

AGENCY: Federal Aviation Administration (FAA), DOT.

ACTION: Final rule; correction.

SUMMARY: This document makes a correction to the amendment numbers in the final rule published in the Federal Register on July 31, 2003. That rule adopted upgraded flammability standards for thermal and acoustic insulation materials used in transport category airplanes.

EFFECTIVE DATE: This correction is effective on February 11, 2004.

FOR FURTHER INFORMATION CONTACT: Jeff Gardlin, (425) 227-2136.

Correction

In the final rule FR Doc. 03-18612 published on July 31, 2003, (68 FR 45046), make the following corrections:

1. On page 45046, in column 1, in the heading section, beginning on line 4 correct “Amdt. Nos. 25-110, 91-275, 121-289, 125-43, 135-85” to read “Amdt. Nos. 25-110, 91-279, 121-301, 125-43, 135-90 ”.

Issued in Washington, DC, on January 30, 2004.
Donald P. Byrne,
Assistant Chief Counsel for Regulations.

[FR Doc. 04-2875 Filed 2-10-04; 8:45 am]

BILLING CODE 4910-13-P